ENVIRONMENTAL PROTECTION AGENCY

40 CFR Part 261

[EPA-R06-RCRA-2024; FRL-12271-01-R6]

Hazardous Waste Management System; Identification and Listing of Hazardous Waste

AGENCY: Environmental Protection Agency (EPA).

ACTION: Final rule.

SUMMARY: The Environmental Protection Agency (EPA)is taking final action to remove an existing exclusion from the list of Federal hazardous waste (delisting) issued to Samsung Austin Semiconductor (Samsung) under the Resource Conservation and Recovery Act. This removal of the exclusion is based on correspondence EPA received from Samsung on August 22, 2024, in which Samsung indicated that the facility has ceased the process creating the delisted waste.

DATES: This rule is effective October 18, 2024.

FOR FURTHER INFORMATION CONTACT: Eshala Dixon, RCRA Permits & Solid Waste Section (LCR-RP), Land, Chemicals and Redevelopment Division, EPA Region 6, 1201 Elm Street, Suite 500, Dallas, TX 75270, phone number: 214-665-6592; email address: dixon.eshala@epa.gov.

SUPPLEMENTARY INFORMATION: On October 2, 2017 (70 FR 49187), the Environmental Protection Agency (EPA) granted a petition submitted by Samsung Austin Semiconductor (Samsung) to have the copper filter cake/copper sludge from the electroplating process excluded, or delisted from the definition of a hazardous waste. The copper filter cake/copper sludge is listed as F006, wastewater treatment sludges from electroplating operations. The basis of the listing is cadmium, hexavalent chromium, nickel, and cyanide (complexed). In a correspondence dated August 22, 2024, Samsung notified EPA that the facility has ceased the electroplating process creating the delisted waste. Accordingly, EPA is amending appendix IX of 40 CFR part 261, table 1 to remove in its entirety the entry for Samsung Austin Semiconductor, Austin TX.

The changes to appendix IX to part 261 are effective October 18, 2024. The Hazardous and Solid Waste Amendments of 1984 amended section 3010 of the Resource Conservation and Recovery Act (RCRA) to allow rules to become effective in less than six months when the regulated community does not need the six-month period to come into compliance. As described above, the facility has ceased the electroplating process creating copper filter cake/copper sludge waste which necessitates the removal of the delisted waste. Therefore, a six-month delay in the effective date is not necessary in this case. This provides the basis for making this amendment effective immediately upon publication under the Administrative Procedures Act pursuant to 5 United States Code (U.S.C.) 553(d). The EPA has determined that having a proposed rulemaking and public comment on this change is unnecessary, as it involves the removal of a delisted waste.

List of Subjects in 40 CFR Part 261

Environmental protection, Hazardous waste, Recycling, Reporting and recordkeeping requirements.

Dated: October 8, 2024.
Helena Healy,
Director, Land, Chemicals and Redevelopment Division, Region 6.

For the reasons set out in the preamble, 40 CFR part 261 is amended as follows:

PART 261—IDENTIFICATION AND LISTING OF HAZARDOUS WASTE

1. The authority citation for part 261 continues to read as follows:

Authority: 42 U.S.C. 6905, 6912(a), 6921, 6922, 6924(y) and 6938.

Appendix IX to Part 21 [Amended]

2. Amend table 1 of appendix IX to part 261 by removing the entry for “Samsung” for Austin, TX.

[FR Doc. 2024-23809 Filed 10-17-24; 8:45 am]

BILLING CODE 6560-50-P